DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 17, 2006.

Interested persons are invited to submit written comments regarding the subject matter of the investigations to the Director, Division of Trade Adjustment Assistance, at the address shown below, not later than July 17, 2006.

The petitions filed in this case are available for inspection at the Office of the Director, Division of Trade Adjustment Assistance, Employment and Training Administration, U.S. Department of Labor, Room C-5311, 200 Constitution Avenue, NW., Washington, DC 20210.

Signed at Washington, DC, this 21st day of June 2006.
Erica R. Cantor,
Director, Division of Trade Adjustment Assistance.

APPENDIX
[TAA Petitions instituted between 6/13/06 and 6/16/06]
TA-W | Subject firm (petitioners) | Location | Date of institution | Date of petition
59541 | Waterbury Rolling Mills Olin Corporation (Comp) | Waterbury, CT | 06/13/06 | 06/08/06
59542 | Tyler Pipe Co. (GMP) | Macungie, PA | 06/13/06 | 05/15/06
59543 | Georgia Pacific (State) | Old Town, ME | 06/13/06 | 06/09/06
59544 | Osram Sylvania, Inc. (Union) | Wellsboro, PA | 06/13/06 | 06/09/06
59545 | Getronics (Wkrs) | Liberty Lake, WA | 06/13/06 | 05/25/06
59546 | Chair Tech (State) | Benton, AR | 06/13/06 | 06/09/06
59547 | Newstech PA (Comp) | Northampton, PA | 06/13/06 | 06/09/06
59548 | Nishikawa Standard Co. (Wkrs) | New Haven, IN | 06/13/06 | 05/25/06
59549 | Manufacturer's Products Co. (UAW) | Warren, MI | 06/13/06 | 06/05/06
59550 | FMC Technologies, Inc. (Wkrs) | Homer City, PA | 06/13/06 | 05/22/06
59551 | Advanced Casting, Inc. (Comp) | Central Falls, RI | 06/13/06 | 06/01/06
59552 | Admiral Machine (UAW) | Wadsworth, OH | 06/13/06 | 06/09/06
59553 | Convergys Corporation (Comp) | Tampa, FL | 06/13/06 | 06/12/06
59554 | Georgia-Pacific Corporation (Comp) | Green Bay, WI | 06/13/06 | 06/09/06
59555 | Michaels of Oregon (Comp) | Meridian, ID | 06/13/06 | 06/12/06
59556 | ATA Airlines, Inc. (Wkrs) | Indianapolis, IN | 06/13/06 | 06/07/06
59557 | GFP Strandwood Corp. (Comp) | Hancock, MI | 06/13/06 | 06/12/06
59558 | Clarion Technologies, Inc. (Comp) | Caledonia, MI | 06/13/06 | 06/12/06
59559 | Express Point Technology Services (State) | Lincolnton, CA | 06/13/06 | 06/12/06
59560 | Thermo IEC Inc. (Comp) | Milford, MA | 06/13/06 | 06/09/06
59561 | Jones Apparel Group Inc. (Comp) | Bristol, PA | 06/13/06 | 06/12/06
59562 | Arkema Corporation (USW) | Riverview, MI | 06/13/06 | 05/26/06
59563 | Distinctive Designs Furniture USA (Comp) | Granite Falls, NC | 06/13/06 | 06/12/06
59564 | Greatbatch-Sierra, Inc. (Comp) | Carson City, NV | 06/14/06 | 06/13/06
59565 | GN Resound Group North American (State) | Bloomington, MN | 06/14/06 | 06/13/06
59566 | Cho Won, Inc. (State) | Van Nuys, CA | 06/14/06 | 06/13/06
59567 | GE Dothan Motor Plant (Comp) | Dothan, AL | 06/14/06 | 06/13/06
59568 | East Palestine China Co. (Wkrs) | East Palestine, OH | 06/14/06 | 06/13/06
59569 | Fort Wayne Foundry Corp. (Comp) | Fort Wayne, IN | 06/14/06 | 06/14/06
59570 | Non-Metallic Components Inc. (Comp) | Cuba City, WI | 06/15/06 | 06/14/06
59571 | Fairchild Semiconductor (Wkrs) | So. Portland, ME | 06/15/06 | 06/13/06
59572 | Gear for Sports (Comp) | Bedford, IA | 06/15/06 | 06/14/06
59573 | Johnson Controls (Comp) | Zeeland, MI | 06/15/06 | 06/12/06
59574 | Kentucky Derby Hosiery Co. Inc. (Comp) | Hickory, NC | 06/16/06 | 06/12/06
59575 | Ephrata Manufacturing Co. (Comp) | Ephrata, PA | 06/16/06 | 06/12/06
59576 | Springs Global U.S. Inc. (Comp) | Chester, SC | 06/16/06 | 06/14/06
59577 | Union Apparel Inc. (Wkrs) | Norvelt, PA | 06/16/06 | 06/09/06
59578 | Wells Manufacturing Corp. (Wkrs) | Fond Du Lac, WI | 06/16/06 | 06/15/06
59579 | Harodite Industries Inc. (Comp) | Taunton, MA | 06/16/06 | 06/15/06
59580 | SSA Global Technologies, Inc. (Wkrs) | Chicago, IL | 06/16/06 | 06/15/06
59581 | VF Imagewear (Comp) | Martinsville, VA | 06/16/06 | 06/08/06
59582 | Convergys (Wkrs) | Portland, OR | 06/16/06 | 06/08/06

[FR Doc. E6-10521 Filed 7-5-06; 8:45 am]

BILLING CODE 4510-30-P